DEPARTMENT OF HOMELAND SECURITY

Federal Emergency Management Agency

[Docket ID FEMA-2014-0002; Internal Agency Docket No. FEMA-B-1431]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 24, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1431, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema .gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community Map Repository Address
Washington County, Pennsylvania (All Jurisdictions)
Maps Available for Inspection Online at: http://www.fema.gov/preliminaryfloodhazarddata
Borough of Allenport | Borough Building, 1850 Main Street, Allenport, PA 15412.
Borough of Beallsville | Borough Building, 82A South Street, Beallsville, PA 15313.
Borough of Bentleyville | Borough Building, 900 Main Street, Suite 101, Bentleyville, PA 15314.
Borough of Burgettstown | Borough Administration Building, 1509 Main Street, Burgettstown, PA 15021.
Borough of California | Borough Zoning Office, 225 Third Street, California, PA 15419.
Borough of Canonsburg | Borough Building, 68 East Pike Street, Canonsburg, PA 15317.
Borough of Centerville | Centerville Borough Office, 100 East End Road, Brownsville, PA 15417.
Borough of Charleroi | Borough Municipal Building, 334 Fallowfield Avenue, Charleroi, PA 15022.
Borough of Coal Center | Borough Building, 132 Water Street, Coal Center, PA 15423.
Borough of Cokeburg | Borough Building, 99 Washington Street, Cokeburg, PA 15324.
Borough of Deemston | Deemston Borough Municipal Building, 1622 Morey Road, Fredericktown, PA 15333.
Borough of Donora | Borough Building, 603 Meldon Avenue, Donora, PA 15033.
Borough of Dunlevy | Borough Building, 2 Walnut Street, Dunlevy, PA 15432.
Borough of Elco | Borough Building, Route 88, Elco, PA 15434.
Borough of Ellsworth | Borough Building, 23 Main Street, Ellsworth, PA 15331.
Borough of Finleyville | Borough Building, 3515 Washington Avenue, Finleyville, PA 15332.
Borough of Green Hills | Green Hills Borough Office, 2755 Park Avenue, Washington, PA 15301.
Borough of Houston | Borough Building, 42 Western Avenue, Houston, PA 15342.
Borough of Long Branch | Long Branch Borough Building, 440 Mount Tarbor Road, Coal Center, PA 15423.
Borough of Marianna | Borough Building, 1 Procasky Road, Marianna, PA 15345.
Borough of Midway | Borough Office, 304 Noblestown Road, Midway, PA 15060.
Borough of New Eagle | Borough Building, 157 Main Street, New Eagle, PA 15067.
Borough of North Charleroi | Borough Building, 555 Walnut Avenue, North Charleroi, PA 15022.
Borough of Roscoe | Borough Municipal Building, 500 Arthur Avenue, Roscoe, PA 15477.
Borough of Speers | Speers Borough Hall, 300 Phillips Street, Charleroi, PA 15022.
Borough of Stockdale | Borough Office, 402 Locust Street, Stockdale, PA 15483.
Borough of Twilight | Twilight Borough Building, 8 Chestnut Road, Charleroi, PA 15022.
Borough of West Brownsville | Municipal Building, 235 Main Street, West Brownsville, PA 15417.
Borough of West Middletown | Borough Office, 18 West Main Street, West Middletown, PA 15379.
City of Monongahela | City Hall, 449 West Main Street, Monongahela, PA 15063.
City of Washington | City Hall, 55 West Maiden Street, Washington, PA 15301.
Township of Amwell | Amwell Township Municipal Building, 885 Amity Ridge Road, Amity, PA 15311.
Township of Blaine | Blaine Township Municipal Building, 40 Main Street, Taylorstown, PA 15365.
Township of Buffalo | Buffalo Township Office, 400 Buffalo Center Lane, Washington, PA 15301.
Township of Canton | Canton Township Municipal Building, 655 Grove Avenue, Washington, PA 15301.
Township of Carroll | Carroll Township Hall, 130 Baird Street, Monongahela, PA 15063.
Township of Cecil | Township Office, 3599 Millers Run Road, Suite 101, Cecil, PA 15321.
Township of Chartiers | Chartiers Township Municipal Center, 2 Buccaneer Drive, Houston, PA 15342.
Township of Cross Creek | Cross Creek Township Municipal Building, 28 Clark Avenue, Avella, PA 15312.
Township of Donegal | Donegal Township Municipal Office, 34 North Liberty Street, West Alexander, PA 15376.
Township of East Bethlehem | East Bethlehem Township Office, 36 Water Street, Fredericktown, PA 15333.
Township of East Finley | East Finley Township Office Building, 1394 East Finley Drive, Claysville, PA 15323.
Township of Fallowfield | Fallowfield Township Building, 9 Memorial Drive, Charleroi, PA 15022.
Township of Hanover | Hanover Township Hall, 11 Municipal Drive, Burgettstown, PA 15021.
Township of Hopewell | Hopewell Township Building, 20 Parkview Road, Avella, PA 15312.
Township of Independence | Independence Township Building, 34 Campbell Street, Avella, PA 15312.
Township of Jefferson | Jefferson Township Building, 670 Cedar Grove Road, Burgettstown, PA 15021.
Township of Morris | Morris Township Municipal Building, 473 Sparta Road, Prosperity, PA 15329.
Township of Mount Pleasant | Mount Pleasant Township Building, 31 McCarrell Road, Hickory, PA 15340.
Township of North Bethlehem | North Bethlehem Township Municipal Building, 2178 East National Pike, Scenery Hill, PA 15360.
Township of North Franklin | North Franklin Township Municipal Building, 620 Franklin Farms Road, Washington, PA 15301.
Township of North Strabane | North Strabane Township Municipal Building, 1929 Route 519 South, Canonsburg, PA 15317.
Township of Nottingham | Nottingham Township Municipal Building, 909 Sugar Run Road, Eighty Four, PA 15330.
Township of Peters | Peters Township Municipal Building, 610 East McMurray Road, McMurray, PA 15317.
Township of Robinson | Robinson Township Office, 8400 Noblestown Road, McDonald, PA 15057.
Township of Smith | Smith Township Building, 1848 Smith Township State Road, Slovan, PA 15078.
Township of Somerset | Somerset Township Municipal Building, 615 Vanceville Road, Eighty Four, PA 15330.
Township of South Franklin | South Franklin Township Building, 100 Municipal Road, Washington, PA 15301.
Township of South Strabane | South Strabane Township Building, 550 Washington Road, Washington, PA 15301.
Township of Union | Union Township Municipal Building, 3904 Finleyville-Elrama Road, Finleyville, PA 15332.
Township of West Bethlehem | West Bethlehem Township Municipal Building, 247 Jefferson Avenue, Marianna, PA 15345.
Township of West Finley | West Finley Township Office, 401 Beham Ridge Road, West Alexander, PA 15376.
Township of West Pike Run | West Pike Run Township Municipal Building, 238 Pike Run Drive, Daisytown, PA 15427.
James City County, Virginia, and Incorporated Areas
Maps Available for Inspection Online at: http://www.fema.gov/preliminaryfloodhazarddata
City of Williamsburg (Independent City) | Planning Department, 401 Lafayette Street, Williamsburg, VA 23185.
Unincorporated Areas of James City County | James City County Planning Department, 101-A Mounts Bay Road, Williamsburg, VA 23185.

(Catalog of Federal Domestic Assistance No. 97.022, “Flood Insurance.”)

Dated: August 4, 2014.
Roy E. Wright,
Deputy Associate Administrator for Mitigation, Department of Homeland Security, Federal Emergency Management Agency.

[FR Doc. 2014-20046 Filed 8-22-14; 8:45 am]

BILLING CODE 9110-12-P